FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 27, 2000.

A. Federal Reserve Bank of Atlanta (Lois Berthaume, Vice President) 104 Marietta Street, N.W., Atlanta, Georgia 30303-2713:

1. Henry E. Blake Family; Caroline H. Blake; James H. Blake; Jean B. Blake; Violet H. Howell; William D. Blake (both individually and as trustee for the Blake William Henry Trust); Catherine L. Morris and Stephen D. Morris (both individually and in their capacity as trustees for the Ellen Elizabeth Morris Trust, the Jane Holloway Morris Trust, the Lee Edward Morris Trust, and the Justin Henry Morris Trust); Catherine M. Ryland (both individually and in her capacity as trustee for the Isabelle Burnum Ryland Trust and the Catherine G. Ryland Trust); Caroline B. Faris (in her capacity as trustee for the Stephen Hardtner Faris Trust and the Philip Lyman Faris Trust); and John Ryland; to retain voting shares of First National Bancshares of Louisiana, Alexandria, Louisiana, and thereby indirectly acquire voting shares of Security First National Bank, Alexandria, Louisiana.

Board of Governors of the Federal Reserve System, April 7, 2000.

Robert deV. Frierson,
Associate Secretary of the Board.

[FR Doc. 00-9143 Filed 4-12-00; 8:45 am]

BILLING CODE 6210-01-P